DEPARTMENT OF AGRICULTURE

Animal and Plant Health Inspection Service

[Docket No. APHIS-2020-0122]

Notice of Request for Revision to and Extension of Approval of an Information Collection; Importation of Gypsy Moth Host Materials From Canada

AGENCY: Animal and Plant Health Inspection Service, USDA.

ACTION: Revision to and extension of approval of an information collection; reopening of comment period.

SUMMARY: We are reopening the comment period for our notice announcing the Animal and Plant Health Inspection Service's intention to request a revision to and extension of approval of an information collection associated with the regulations to prevent the introduction of gypsy moth from Canada into noninfested areas of the United States. We are taking this action to allow interested persons the opportunity to prepare and submit comments.

DATES: The comment period for the notice published on January 21, 2021 (86 FR 6289-6290) is reopened. We will consider all comments that we receive on or before June 14, 2021.

ADDRESSES: You may submit comments by either of the following methods:

• Federal eRulemaking Portal: Go to www.regulations.gov. Enter APHIS-2020-0122 in the Search field. Select the Documents tab, then select the Comment button in the list of documents.

• Postal Mail/Commercial Delivery: Send your comment to Docket No. APHIS-2020-0122, Regulatory Analysis and Development, PPD, APHIS, Station 3A-03.8, 4700 River Road, Unit 118, Riverdale, MD 20737-1238.

Supporting documents and any comments we receive on this docket may be viewed at www.regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the regulations for the importation of gypsy moth host material from Canada, contact Mr. Marc Phillips, Senior Regulatory Policy Specialist, PPQ, APHIS, USDA, 4700 River Road Unit 133, Riverdale, MD 20737; (301) 851-2114. For copies of more detailed information on the information collection, contact Mr. Joseph Moxey, APHIS' Paperwork Reduction Act Coordinator, at (301) 851-2483.

SUPPLEMENTARY INFORMATION: On January 21, 2021, we published in the Federal Register (86 FR 6289-6290, Docket No. APHIS-2020-0122) a notice ¹ and request for comments on an information collection associated with the regulations to prevent the introduction of gypsy moth from Canada into noninfested areas of the United States.

¹ To view the notice, go to www.regulations.gov. Enter APHIS-2020-0122 in the Search field.

Comments on the notice were required to be received on or before March 22, 2021. However, the docket link in the ADDRESSES section for submission of comments was incorrect. We are therefore reopening the comment period on Docket No. APHIS-2020-0122 for an additional 60 days to allow interested persons to prepare and submit comments.

We will also consider all comments received between March 23, 2021, (the day after the close of the comment period) and the date of this notice.

Done in Washington, DC, this 9th day of April 2021.
Mark Davidson,
Acting Administrator, Animal and Plant Health Inspection Service.

[FR Doc. 2021-07679 Filed 4-14-21; 8:45 am]

BILLING CODE 3410-34-P